DEPARTMENT OF HEALTH AND HUMAN SERVICES

Food and Drug Administration

[Docket No. 2004N-0226]

Food and Drug Administration Modernization Act of 1997: Modifications to the List of Recognized Standards, Recognition List Number: 016

AGENCY: Food and Drug Administration, HHS.

ACTION: Notice.

SUMMARY: The Food and Drug Administration (FDA) is announcing a publication containing modifications the agency is making to the list of standards FDA recognizes for use in premarket reviews (FDA recognized consensus standards). This publication, entitled “Modifications to the List of Recognized Standards, Recognition List Number: 016” (Recognition List Number: 016), will assist manufacturers who elect to declare conformity with consensus standards to meet certain requirements for medical devices.

DATES: Submit written or electronic comments concerning this document at any time. See section VII of this document for the effective date of the recognition of standards announced in this document.

ADDRESSES: Submit written requests for single copies of “Modifications to the List of Recognized Standards, Recognition List Number: 016” to the Division of Small Manufacturers, International and Consumer Assistance, Center for Devices and Radiological Health (HFZ-220), Food and Drug Administration, 1350 Piccard Dr., Rockville, MD 20850. Send two self-addressed adhesive labels to assist that office in processing your requests, or fax your request to 301-443-8818. Submit written comments concerning this document, or recommendations for additional standards for recognition, to the contact person (see FOR FURTHER INFORMATION CONTACT). Submit electronic comments by e-mail: standards@cdrh.fda.gov. This document may also be accessed on FDA's Web site at http://www.fda.gov/cdrh/fedregin.html. See section VI of this document for electronic access to the searchable database for the current list of FDA recognized consensus standards, including Recognition List Number: 016 modifications and other standards related information.

FOR FURTHER INFORMATION CONTACT: Carol L. Herman, Center for Devices and Radiological Health (HFZ-84), Food and Drug Administration, 12720 Twinbrook Pkwy., Rockville, MD 20857, 301-827-0021.

SUPPLEMENTARY INFORMATION:

I. Background

Section 204 of the Food and Drug Administration Modernization Act of 1997 (FDAMA) (Public Law 105-115) amended section 514 of the Federal Food, Drug, and Cosmetic Act (the act) (21 U.S.C. 360d). Amended section 514 allows FDA to recognize consensus standards developed by international and national organizations for use in satisfying portions of device premarket review submissions or other requirements.

In a notice published in the Federal Register of February 25, 1998 (63 FR 9561), FDA announced the availability of a guidance entitled “Recognition and Use of Consensus Standards.” The notice described how FDA would implement its standard recognition program and provided the initial list of recognized standards.

FDA has modified its initial list of recognized standards in the following Federal Register notices:

Table 1.
Federal Register Cite
October 16, 1998 (63 FR 55617)
July 12, 1999 (64 FR 37546)
November 15, 2000 (65 FR 69022)
May 7, 2001 (66 FR 23032)
January 14, 2002 (67 FR 1774)
October 2, 2002 (67 FR 61893)
April 28, 2003 (68 FR 22391)
March 8, 2004 (69 FR 10712)
June 18, 2004 (69 FR 34176)
October 4, 2004 (69 FR 59240)
May 27, 2005 (70 FR 30756)
November 8, 2005 (70 FR 67713)
March 31, 2006 (71 FR 16313)
June 23, 2006 (71 FR 36121)

These notices describe the addition, withdrawal, and revision of certain standards recognized by FDA. The agency maintains “hypertext markup language” (HTML) and “portable document format” (PDF) versions of the list of “FDA Recognized Consensus Standards.” Both versions are publicly accessible at the agency's Web site. See section VI of this document for electronic access information. Interested persons should review the supplementary information sheet for the standard to understand fully the extent to which FDA recognizes the standard.

II. Modifications to the List of Recognized Standards, Recognition List Number: 016

FDA is announcing the addition, withdrawal, correction, and revision of certain consensus standards the agency will recognize for use in satisfying premarket reviews and other requirements for devices. FDA will incorporate these modifications in the list of FDA Recognized Consensus Standards in the agency's searchable database. FDA will use the term “Recognition List Number: 016” to identify these current modifications.

In table 1 of this document, FDA describes the following modifications: (1) The withdrawal of standards and their replacement by others, (2) the correction of errors made by FDA in listing previously recognized standards, and (3) the changes to the supplementary information sheets of recognized standards that describe revisions to the applicability of the standards.

In section III of this document, FDA lists modifications the agency is making that involve the initial addition of standards not previously recognized by FDA.

Table 2.
Old Item No. | Standard | Change | Replacement Item No.
A. Anesthesia
39 | CGA V-5: 2005, Diameter-Index Safety System (Noninterchangeable Low Pressure Connections for Medical Gas Applications) | Withdrawn and replaced with newer version | 68
53 | ASTM F1464-93 (2005), Standard Specification for Oxygen Concentrators for Domiciliary Use | Withdrawn and replaced with newer version | 69
65 | ISO 21647: 2005, Medical Electrical Equipment—Particular Requirements for the Basic Safety and Essential Performance of Respiratory Gas Monitors | Devices affected, Code of Federal Regulations citation, and relevant guidance |
B. Biocompatibility
107 | ASTM F1877-05, Standard Practice for Characterization of Particles | Withdrawn and replaced with newer version | 114
108 | ASTM F1905-98 (2003), Standard Practice for Selecting Tests for Determining the Propensity of Materials for Cause Immunotoxicity | Title |
C. Dental/Ear, Nose, and Throat (ENT)
49 | ANSI/ADA Specification No. 17: 1983 (R1999), Denture Base Temporary Relining Resins | Withdrawn and replaced with newer version | 130
64 | ISO 3107: 2004, Dental Zinc Oxide/Eugenol Cements and Zinc Oxide Non-Eugenol Cements | Withdrawn and replaced with newer version | 131
66 | ISO 4049: 1988, Dentistry—Resin-Based Filling Materials | Withdrawn. Refer to item no. 99 |
70 | ISO 6874: 2005, Dental Resin-Based Pit and Fissure Sealants | Withdrawn and replaced with newer version | 132
71 | ISO 6876: 2001, Dental Root Canal Sealing Materials | Withdrawn and replaced with newer version | 133
74 | ISO 7494-1: 2004, Dentistry—Dental Units—Part 1: General Requirements and Test Methods | Withdrawn and replaced with newer version | 134
114 | ANSI/ADA Specification No. 48: 1989, Visible Curing Units | Title |
116 | ISO 10139-1: 2005, Dentistry—Soft Lining Materials for Removable Dentures—Part 1: Materials for Short-Term Use | Withdrawn and replaced with newer version | 135
D. General Hospital/General Plastic Surgery
83 | ASTM D6319-00a (2005), Standard Specification for Nitrile Examination Gloves for Medical Application | Withdrawn and replaced with newer version | 167
87 | ASTM D3577-06, Standard Specification for Rubber Surgical Gloves | Withdrawn and replaced with newer version | 168
106 | ASTM D3772-01 (2005), Standard Specification for Natural Rubber Finger Cots | Withdrawn and replaced with newer version | 169
E. In Vitro Diagnostics
003 | CLSI/NCCLS GP10-A 1995, Assessment of the Clinical Accuracy of Laboratory Tests Using Receiver Operating Characteristic (ROC) Plots; Approved Guideline | Contact person |
004 | CLSI/NCCLS GP14-A 1996, Labeling of Home-Use In Vitro Testing Products; Approved Guideline | Contact person |
007 | CLSI/NCCLS LA1-A2 1994, Assessing the Quality of Radioimmunoassay Systems—2d ed.; Approved Guideline | Contact person |
012 | CLSI/NCCLS C12-A, Definitions of Quantities and Conventions Related to Blood pH and Gas Analysis; Approved Standard | Contact person |
013 | CLSI/NCCLS C21-A, Performance Characteristics for Devices Measuring PO2 and PCO2 in Blood Samples; Approved Standard | Contact person |
015 | CLSI/NCCLS C25-A, Fractional Oxyhemoglobin, Oxygen Content and Saturation, and Related Quantities in Blood: Terminology, Measurement, and Reporting; Approved Guideline | Contact person |
016 | CLSI/NCCLS C27-A, Blood Gas Preanalytical Considerations: Specimen Collection, Calibration, and Controls; Approved Guideline | Contact person |
018 | CLSI/NCCLS C30-A, Ancillary (Bedside) Blood Glucose Testing | Contact person |
038 | CLSI/NCCLS I/LA10-A, Choriogonadotropin Testing: Nomenclature, Reference Preparations, Assay Performance, and Clinical Application; Approved Guideline | Contact person |
039 | CLSI/NCCLS I/LA17-A, Assessing the Quality of Systems for Alpha-Fetoprotein (AFP) Assays Used in Prenatal Screening and Diagnosis of Neural Tube Defects; Approved Guideline | Contact person |
043 | CLSI/NCCLS LA4-A3, Blood Collection on Filter Paper for Neonatal Screening Programs; Approved Standard—3d ed. | Contact person |
048 | CLSI/NCCLS T/DM6-A, Blood Alcohol Testing in the Clinical Laboratory; Approved Guideline | Contact person |
051 | CLSI/NCCLS GP 27-A, Using Proficiency Testing (PT) to Improve the Clinical Laboratory; Approved Guideline | Contact person |
052 | CLSI/NCCLS NRSCL 8-A, Terminology and Definitions for Use in National Committee for Clinical Laboratory Standards (NCCLS) Documents; Approved Standard | Contact person |
055 | CLSI/NCCLS H18-A2, Procedures for the Handling and Processing of Blood Specimens; Approved Guideline | Contact person |
059 | CLSI/NCCLS AUTO2-A, Laboratory Automation: Bar Codes for Specimen Container Identification; Approved Standard | Contact person |
F. Materials
40 | ASTM F2063-05, Standard Specification for Wrought Nickel-Titanium Shape Memory Alloys for Medical Devices and Surgical Implants | Withdrawn and replaced with newer version | 122
48 | ASTM F899-02, Standard Specification for Stainless Steel for Surgical Instruments | Contact person |
60 | ISO 5832-5: 2005, Implants for Surgery—Metallic Materials—Part 5: Wrought Cobalt-Chromium-Tungsten-Nickel Alloy | Withdrawn and replaced with newer version | 123
65 | ISO 5834-2: 2006, Implants for Surgery—Ultra-High-Molecular-Weight Polyethylene—Part 2: Moulded Forms | Withdrawn and replaced with newer version | 127
67 | ISO 7153-1: 1991/Amd. 1: 1999, Surgical Instruments—Metallic Materials—Part 1: Stainless Steel | Contact person |
70 | ASTM F2052-06e1, Standard Test Method for Measurement of Magnetically Induced Displacement Force on Medical Devices in the Magnetic Resonance Environment | Withdrawn and replaced with newer version | 124
72 | ASTM F2213-06, Standard Test Method for Measurement of Magnetically Induced Torque on Passive Implants in the Magnetic Resonance Environment | Withdrawn and replaced with newer version | 128
85 | ASTM F1854-01, Standard Test Method for Stereological Evaluation of Porous Coatings on Medical Implants | Contact person |
86 | ASTM F1926-03, Standard Test Method for Evaluation of the Environmental Stability of Calcium Phosphate Coatings | Contact person |
88 | ASTM F2024-00, Standard Practice for X-Ray Diffraction Determination of Phase Content of Plasma-Sprayed Hydroxyapatite Coatings | Contact person |
89 | ASTM F1873-98, Standard Specification for High-Purity Dense Yttria Tetragonal Zirconium Oxide Polycrystal (Y-TZP) for Surgical Implant Applications | Contact person |
94 | ASTM F601-03, Standard Practice for Fluorescent Penetrant Inspection of Metallic Surgical Implants | Contact person |
99 | ASTM F2004-05, Standard Test Method for Transformation Temperature of Nickel-Titanium Alloys by Thermal Analysis | Withdrawn and replaced with newer version | 125
103 | ASTM F1801-97 (2004), Standard Practice for Corrosion Fatigue Testing of Metallic Implant Materials | Contact person |
106 | ASTM F648-04, Standard Specification for Ultra-High-Molecular-Weight Polyethylene Powder and Fabricated Form for Surgical Implants | Contact person |
109 | ASTM F561-05a, Standard Practice for Retrieval and Analysis of Medical Devices, and Associated Tissues and Fluids | Withdrawn and replaced with newer version | 126
111 | ASTM F1160-05, Standard Test Method for Shear and Bending Fatigue Testing of Calcium Phosphate and Metallic Medical and Composite Calcium Phosphate/Metallic Coatings | Contact person |
112 | ASTM F1044-05, Standard Test Method for Shear Testing of Calcium Phosphate Coatings and Metallic Coatings | Contact person |
113 | ASTM F1147-05, Standard Test Method for Tension Testing of Calcium Phosphate and Metal Coatings | Contact person |
117 | ASTM F86-04, Standard Practice for Surface Preparation and Marking of Metallic Surgical Implants | Contact person |
G. Obstetrics-Gynecology (OB-GYN)/Gastroenterology
28 | ANSI/AAMI RD16: 1996/A1: 2002/(R)2005, Hemodialyzers | Reaffirmation |
29 | ANSI/AAMI RD17: 1994/A1: 2002/(R)2005, Hemodialyzer Blood Tubing | Reaffirmation |
31 | ANSI/AAMI ID54: 1996/(R)2005, Enteral Feeding Set Adapters and Connectors | Reaffirmation |
H. Ophthalmic
20 | ISO 11979-1: 1999, Ophthalmic Implants—Intraocular Lenses—Part 1: Vocabulary | Contact person |
22 | ISO 11979-3: 1999, Ophthalmic Implants—Intraocular Lenses—Part 3: Mechanical Properties and Test Methods | Contact person |
32 | ISO 11990: 2003, Optics and Optical Instruments—Lasers and Laser-Related Equipment—Determination of Laser Resistance of Tracheal Tube Shafts | Withdrawn and transferred to Radiology |
I. Orthopedic/Physical Medicine
85 | ISO 14630: 2005, Non-Active Surgical Implants—General Requirements | Withdrawn and replaced with newer version | 194
141 | ASTM F1612-95 (2005), Standard Practice for Cyclic Fatigue Testing of Metallic Stemmed Hip Arthroplasty Femoral Components With Torsion | Withdrawn and replaced with newer version | 195
142 | ASTM F1672-95 (2005), Standard Specification for Resurfacing Patellar Prosthesis | Withdrawn and replaced with newer version | 196
150 | ASTM F983-86 (2005), Standard Practice for Permanent Marking of Orthopaedic Implant Components | Withdrawn and replaced with newer version | 197
162 | ASTM F564-02 (2006), Standard Specification and Test Methods for Metallic Bone Staples | Withdrawn and replaced with newer version | 201
174 | ASTM F382-99 (2003) e1, Standard Specification and Test Method for Metallic Bone Plates | Withdrawn and replaced with newer version | 198
176 | ASTM F565-04, Standard Practice for Care and Handling of Orthopedic Implants and Instruments | Withdrawn and replaced with newer version | 199
193 | ASTM F2083-06, Standard Specification for Total Knee Prosthesis | Withdrawn and replaced with newer version | 200
J. Radiology
32 (Opthalmic) | ISO 11990: 2003, Optics and Optical Instruments—Lasers and Laser-Related Equipment—Determination of Laser Resistance of Tracheal Tube Shafts | Transferred from Ophthalmic, type of standard, and contact person | 144
92 | IEC 61674 (1997-10), Medical Electrical Cquipment—Dosimeters With Ionization Chambers and/or Semi-Conductor Detectors as Used in X-Ray Diagnostic Imaging | Withdrawn and replaced | 145
93 | IEC 61674 (2002), Amendment 1, Medical Electrical Equipment—Dosimeters With Ionization Chambers and/or Semi-Conductor Detectors as Used in X-Ray Diagnostic Imaging | Withdrawn and replaced | 145
118 | IEC 60601-2-17 (2005), Medical Electrical Equipment—Part 2-17: Particular Requirements for the Safety of Automatically-Controlled Brachytherapy Afterloading Equipment | Withdrawn and replaced with newer version | 146
135 | IEC 60601-2-5 (2005), Medical Electrical Equipment—Part 2-5: Particular Requirements for the Safety of Ultrasonic Physiotherapy Equipment ed. 2.0 | Withdrawn and replaced with newer version | 147
8 | IEC 60336 (2005), Medical Electrical Equipment—X-Ray Tube Assemblies for Medical Diagnosis—Characteristics of Focal Spots | Withdrawn and replaced with newer version | 149
K. Sterility
74 | ANSI/AAMI ST 60: 1996, Sterilization of Health Care Products—Chemical Indicators—Part 1: General Requirements | Withdrawn |
103 | ISO 11607-2000, Packaging for Terminally Sterilized Medical Devices | Withdrawn |

III. Listing of New Entries

The listing of new entries and consensus standards, added as modifications to the list of recognized standards under Recognition List Number: 016, follows:

Table 3.
Item No. | Title of Standard | Reference No. and Date
A. Dental/ENT
136 | Standard Practice for Describing System Output of Implantable Middle Ear Hearing Devices | ASTM F2504-05
B. General Hospital/General Plastic Surgery
160 | Sterile Single-Use Syringes, With or Without Needle, for Insulin | ISO 8537: 1991/Amendment 1: 2000
161 | Sterile, Single-Use Intravascular Catheters—Part 1: General Requirements | ISO 10555-1: 1996/Amendment 1: 1999, Amendment 2: 2004
162 | Infusion Equipment for Medical Use—Part 1: Infusion Glass Bottles | ISO 8536-1: 2000/Amendment 1: 2004
163 | Stainless Steel Needle Tubing for the Manufacture of Medical Devices | ISO 9626: 1991/Amendment 1: 2001
164 | Sterile, Single-Use Intravascular Catheters—Part 5: Over-Needle Peripheral Catheters | ISO 10555-5: 1996/Amendment 1: 1999, Corrigendum 1: 2002
165 | Standard Specification for Polychloroprene Examination Gloves for Medical Application | ASTM D6977-04
166 | Standard Specification for Puncture Resistance of Materials Used in Containers for Discarded Medical Needles and Other Sharps | ASTM F2132-01
C. In Vitro Diagnostics
124 | Fluorescence Calibration and Quantitative Measurement of Fluorescence Intensity; Approved Guideline | CLSI/NCCLS I/LA24-A
125 | Procedures for the Recovery and Identification of Parasites from the Intestinal Tract; Approved Guideline | CLSI M28-A2, Vol. 25, No. 16
126 | Susceptibility Testing of Mycobacteria, Nocardiae, and Other Aerobic Actinomycetes | CLSI M24-A, Vol. 23, No. 18
D. OB-GYN/Gastroenterology
38 | Optics and Optical Instruments—Medical Endoscopes and Endoscopic Accessories Part 3: Determination of Field of View and Direction of View of Endoscopes with Optics | ISO 8600-3: 1997/Amendment 1: 2003
39 | Optics and Photonics—Medical Endoscopes and Endotherapy Devices—Part 5: Determination of Optical Resolution of Rigid Endoscopes with Optics | ISO 8600-5: 2005
40 | Optics and Photonics—Medical Endoscopes and Endotherapy Devices—Part 6: Vocabulary | ISO 8600-6: 2005
E. Radiology
145 | Medical Electrical Equipment—Dosimeters with Ionization Chambers and/or Semi-Conductor Detectors as Used in X-Ray Diagnostic Imaging | IEC 61674 (1997), (2002), Amendment 1
148 | Medical Electrical Equipment—Part 2-37: Particular Requirements for the Safety of Ultrasonic Medical Diagnostic and Monitoring Equipment | IEC 60601-2-37 (2005), Amendment 2
F. Software
8 | Medical Device Software—Software Life Cycle Processes | IEC 62304 ed. 1.0 (2006)
G. Sterility
193 | Packaging for Terminally Sterilized Medical Devices—Part 1: Requirements for Materials, Sterile Barrier Systems, and Packaging Systems, 3d ed. | ANSI/AAMI/ISO 11607-1: 2006
194 | Packaging for Terminally Sterilized Medical Devices—Part 2: Validation Requirements for Forming, Sealing, and Assembly Processes, 1st ed. | ANSI/AAMI/ISO 11607-2: 2006
195 | Sterilization of Health Care Products—Chemical Indicators—Part 1: General Requirements, 2d ed. | ANSI/AAMI/ISO 11140-1: 2005

IV. List of Recognized Standards

FDA maintains the agency's current list of FDA recognized consensus standards in a searchable database that may be accessed directly at FDA's Web site at http://www.accessdata.fda.gov/scripts/cdrh/cfdocs/cfStandards/search.cfm. FDA will incorporate the modifications and minor revisions described in this notice into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under section 514 of the act by submitting such recommendations, with reasons for the recommendation, to the contact person (see FOR FURTHER INFORMATION CONTACT). To be properly considered such recommendations should contain, at a minimum, the following information: (1) Title of the standard, (2) any reference number and date, (3) name and address of the national or international standards development organization, (4) a proposed list of devices for which a declaration of conformity to this standard should routinely apply, and (5) a brief identification of the testing or performance or other characteristics of the device(s) that would be addressed by a declaration of conformity.

VI. Electronic Access

You may obtain a copy of “Guidance on the Recognition and Use of Consensus Standards” by using the Internet. CDRH maintains a site on the Internet for easy access to information including text, graphics, and files that you may download to a personal computer with access to the Internet. Updated on a regular basis, the CDRH home page includes the guidance as well as the current list of recognized standards and other standards related documents. After publication in the Federal Register, this notice announcing “Modifications to the List of Recognized Standards, Recognition List Number: 016” will be available on the CDRH home page. You may access the CDRH home page at http://www.fda.gov/cdrh.

You may access “Guidance on the Recognition and Use of Consensus Standards,” and the searchable database for “FDA Recognized Consensus Standards” through the hyperlink at http://www.fda.gov/cdrh/stdsprog.html.

This Federal Register document on modifications in FDA's recognition of consensus standards is available at http://www.fda.gov/cdrh/fedregin.html.

VII. Submission of Comments and Effective Date

Interested persons may submit to the contact person (see FOR FURTHER INFORMATION CONTACT) written or electronic comments regarding this document. Submit a single copy of electronic comments or two paper copies of any mailed comments, except that individuals may submit one paper copy. Comments are to be identified with the docket number found in brackets in the heading of this document. FDA will consider any comments received in determining whether to amend the current listing of modifications to the list of recognized standards, Recognition List Number: 016. These modifications to the list of recognized standards are effective upon publication of this notice in the Federal Register.

Dated: October 27, 2006.
Linda S. Kahan,
Deputy Director, Center for Devices and Radiological Health.

[FR Doc. E6-18604 Filed 11-2-06; 8:45 am]

BILLING CODE 4160-01-S